DEPARTMENT OF DEFENSE

48 CFR Part 211

Defense Federal Acquisition Regulation Supplement; Technical Amendment

AGENCY: Department of Defense (DoD).

ACTION: Final rule.

SUMMARY: DoD is making a technical amendment to the Defense Federal Acquisition Regulation Supplement (DFARS) to add a reference to new DFARS Procedures, Guidance, and Information (PGI) requirements relating to the publication of justifications for use of brand name contract specifications.

DATES: Effective Date: May 5, 2005.

FOR FURTHER INFORMATION CONTACT: Ms. Angelena Moy, Defense Acquisition Regulations Council, OUSD(AT&L)DPAP(DAR), IMD 3C132, 3062 Defense Pentagon, Washington, DC 20301-3062. Telephone (703) 602-1302; facsimile (703) 602-0350.

List of Subjects in 48 CFR Part 211

Government procurement.

Michele P. Peterson,
Editor, Defense Acquisition Regulations System.

Therefore, 48 CFR Part 211 is amended as follows:

PART 211—DESCRIBING AGENCY NEEDS

1. The authority citation for 48 CFR Part 211 continues to read as follows:

Authority: 41 U.S.C. 421 and 48 CFR Chapter 1.

2. Section 211.105 is added to read as follows:

211.105 Items peculiar to one manufacturer.

Follow the publication requirements at PGI 211.105.

[FR Doc. 05-9005 Filed 5-4-05; 8:45 am]

BILLING CODE 5001-08-P